DEPARTMENT OF ENERGY

Bonneville Power Administration

Notice of Revised Schedule Regarding Issues Arising Under Bonneville Power Administration's New Large Single Load Policy Review

AGENCY: Bonneville Power Administration (BPA), Department of Energy.

ACTION: Notice of revised schedule for policy issue review and issuance of a record of decision.

SUMMARY: This notice announces a change in the schedule for the policy review of certain issues relating to BPA's existing policy on New Large Single Loads (NLSL). Three issues were identified in the initial Federal Register notice (published June 25, 2001) as follows: (1) BPA preference customer service to direct service industrial (DSI) load; (2) the transfer of “contracted for, committed to” (CFCT) load determinations between preference customers; and (3) whether BPA should close the class of CFCT load served by BPA customers.

DATES: NLSL ROD publication date on Issues 2 and 3: November or December 2001. Record of Decision on Issue 1: late FY 2002.

FOR FURTHER INFORMATION CONTACT: David Fitzsimmons, Account Executive, Bonneville Power Administration, P.O. Box 3621, Portland, Oregon 97208, telephone (503) 230-3685. Information can also be obtained from your BPA Customer Account Executive.

SUPPLEMENTARY INFORMATION: Issue 1. BPA received approximately 60 comments on all three issues. After a review of the comments, BPA determined that additional regional discussion would benefit the resolution of the first issue. BPA will invite participation in an appropriate public process for the purpose of addressing this issue in a broader context of issues than the NLSL policy review affords. This extended review is expected to take place during fiscal year 2002 and may be informed by a more comprehensive process reviewing broader electric power issues. Upon conclusion of this process, BPA plans to issue a record of decision on the first issue, prior to the end of FY 2002, taking into consideration the public comment already received and any additional comment on the issue received during the extended review.

Issues 2 and 3. The treatment of any transfer of “contracted for, committed to” (CFCT) loads between public agency or cooperative preference customers; and the issue of whether BPA should close the class of CFCT load served by BPA customers will be addressed in a record of decision which BPA plans to publish during the next sixty days.

BPA is directed by section 3(13) of the Northwest Power Act to treat large retail loads at a consumer's facility, served by a public body, cooperative, investor-owned utility, or Federal agency customer, which load increases power requirements in excess of 10 average megawatts (aMW) in any consecutive 12-month period, as within the definition of New Large Single Loads. For purposes of BPA's sales of electric power to a utility or Federal agency customer, the designation of the load at a consumer's facility as a NLSL does not affect the amount or quality of electric service which BPA provides. BPA treats these loads as any other load in terms of its supply of power and quality of service obligations under its utility power sales contracts. Designation of a load as a NLSL, however, does affect the power rate of the electric power sold for service to that load. BPA may not sell electric power at the Priority Firm (PF) rate to utilities for service to NLSLs. Rather, electric power sold by BPA for utility service to NLSLs is sold at the New Resources (NR) rate, which historically has been a higher rate than the PF rate.

BPA's NLSL policy is a combination of contract and policy decisions recorded in several documents. A statement of those decisions has been consolidated into one document, and it is available on BPA's Web site: http://www.bpa.gov/Power/subscription.

While BPA received comments on certain aspects of Issue 1, one area that had not been addressed in the policy process was the transfer of non-DSI loads larger than 9.9 aMW to service from a preference customer. Commenters on Issue 1 expressed the desire to address the more general issue. That issue is whether BPA should change its NLSL policy to allow any large loads at a consumer's facility—new and existing—larger than 9.9 aMW to transfer their load service to a public body, cooperative or federal agency customer in contract increments of only 9.9 aMW [“phase on”], and receive service at BPA's PF rate.

BPA will continue to apply its current policy during the extended review period. The policy states that in making any NLSL determinations BPA considers the entire load at a consumer's facility. If the total electric load associated with a single facility exceeds 9.9 aMW, then the entire electrically connected load is the single load which can be considered as being served by the utility. A utility has a general responsibility to provide service and only limited rights to deny service to consumers. If a consumer's facility has a total connected load exceeding 9.9 aMW and takes service from a utility, even if limited by contract, the load actually placed on the utility is the total connected electric load at the facility. The service would be declared a NLSL by BPA and served at the applicable NR rate if the total plant load that could be served was over 10 aMW.

A change in this policy could permit any large loads at a consumer's facility to separate out the entire load into contract increments of 9.9 aMW, regardless of the total load, and to place the 9.9 aMW per year increments of load on a preference customer at BPA's applicable PF rate. Some comments suggested a need for BPA to adopt this change in policy, others suggested imposition of a limit on the total amount of megawatts that could be transferred under contracts with a utility, and others argued for no change in policy. The extended review will afford an opportunity for parties to comment on the nature and impact of such a change, if any, in the context of future load service for these large loads.

Responsible Official: David Fitzsimmons, Account Executive, Power Business Line, is the official responsible for the review of these issues arising under BPA's NLSL policy.

Issued in Portland, Oregon, on October 22, 2001.
Stephen J. Wright,
Acting Administrator, and Chief Executive Officer.

[FR Doc. 01-27435 Filed 10-31-01; 8:45 am]

BILLING CODE 6450-01-P